ENVIRONMENTAL PROTECTION AGENCY

[EPA-R01-OW-2008-0921; FRL-8778-7]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the State waters of Revere, Saugus, Lynn, Nahant, and Swampscott.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U.S. Environmental Protection Agency—New England Region, One Congress Street, Suite 1100, COP, Boston, MA 02114-2023. Telephone: (617) 918-0538. Fax number: (617) 918-1505. E-mail address: rodney.ann@epa.gov.

SUPPLEMENTARY INFORMATION: On January 5, 2009, EPA published a notice that the Commonwealth of Massachusetts had petitioned the Regional Administrator, Environmental Protection Agency, to determine that adequate facilities for the safe and sanitary removal and treatment of sewage from all vessels are reasonably available for the State waters of Revere, Saugus, Lynn, Nahant, and Swampscott. Eighty-one comments were received on this petition. There were eighty comments in support of the designation and one comment in opposition. The response to comments can be obtained utilizing the above contact information.

The petition was filed pursuant to Section 312(f)(3) of Public Law 92-500, as amended by Public Laws 95-217 and 100-4, for the purpose of declaring these waters a No Discharge Area (NDA).

Section 312(f)(3) States:

After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the State waters of Revere, Saugus, Lynn, Nahant, and Swampscott. The NDA boundaries are as follows:

Waterbody/general area | Latitude | Longitude
From the Revere and Winthrop municipal boundary (northern edge of the Boston Harbor NDA) | 42°23′30″ N | 70°58′50″ W
North along the Revere and Winthrop municipal boundary (northern edge of the Boston Harbor NDA) | 42°24′28″ N | 70°57′33″ W
Arc south along the Winthrop and Nahant municipal boundary | 42°23′13″ N | 70°55′28″ W
Arc east along the Winthrop and Nahant municipal boundary | 42°23′04″ N | 70°54′04″ W
Arc northeast along the Winthrop and Nahant municipal boundary | 42°23′32″ N | 70°51′28″ W
North to the Marblehead/Swampscott town line (southern edge of the Salem Sound NDA) | 42°26′33″ N | 70°49′05″ W
West along the Marblehead/Swampscott town line (southern edge of the Salem Sound NDA) | 42°28′43″ N | 70°52′45″ W
Inland on the Pines River, Rt. 107 Bridge | 42°25′51.93″ N | 70°59′50.28″ W
Inland on the Saugus River, Lincoln Ave. Bridge | 42°27′34.7″ N | 70°59′20.6″ W

The information submitted to EPA by the Commonwealth of Massachusetts certifies that there are two pumpout facilities located within this area. A list of the facilities, with phone numbers, locations, and hours of operation is appended at the end of this determination.

Based on the examination of the petition and its supporting documentation, EPA has determined that adequate facilities for the safe and sanitary removal and treatment of sewage from all vessels are reasonably available for the area covered under this determination.

This determination is made pursuant to Section 312(f)(3) of Public Law 92-500, as amended by Public Laws 95-217 and 100-4.

Pumpout Facilities Within the No Discharge Areas
[Revere, Saugus, Lynn, Nahant, and Swampscott]
Name | Location | Contact info. | Hours | Mean low water depth
Seaport Landing Marina | Lynn Harbor | 781-592-5821 VHF 9,13,16 | 8am-7pm April 15-Nov. 1 | 20 ft.
Revere Harbormaster | Revere | 207-967-2511 VHF 9 | On Call | NA.

Dated: February 24, 2009.
Ira W. Leighton,
Acting Regional Administrator, New England Region.

[FR Doc. E9-5878 Filed 3-17-09; 8:45 am]

BILLING CODE 6560-50-P